FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington DC 20551-0001, not later than September 29, 2022.

A. Federal Reserve Bank of Atlanta (Erien O. Terry, Assistant Vice President) 1000 Peachtree Street NE, Atlanta, Georgia 30309. Comments can also be sent electronically to Applications.Comments@atl.frb.org:

1. Strategic Value Investors, LP; Strategic Value Bank Partners, LLC; Strategic Value Opportunities, LP; Strategic Value Private Partners, LLC; and Benjamin Mackovak and Martin Adams, each a managing member of Strategic Value Bank Partners, LLC, and Strategic Value Private Partners, LLC, all of Cleveland, Ohio; as a group acting in concert, to acquire additional voting shares of FineMark Holdings, Inc., and thereby indirectly acquire voting shares of FineMark National Bank & Trust, both of Fort Myers, Florida.

B. Federal Reserve Bank of Chicago (Colette A. Fried, Assistant Vice President) 230 South LaSalle Street, Chicago, Illinois 60690-1414:

1. Bernard Bennett Banks, Evanston, Illinois, as trustee of a to-be-formed voting trust, Miami, Florida, for the benefit of Stephen Calk, Miami, Florida; to acquire voting shares of National Bancorp Holdings, Inc., and thereby indirectly acquire voting shares of The Federal Savings Bank, both of Chicago, Illinois. This notification replaces and supersedes the document published on 09-02-2022 at 87 FR 54217.

Board of Governors of the Federal Reserve System.
Michele Taylor Fennell,
Deputy Associate Secretary of the Board.

[FR Doc. 2022-19862 Filed 9-13-22; 8:45 am]

BILLING CODE P